FEDERAL ELECTION COMMISSION

Sunshine Act Notice

AGENCY: Federal Election Commission

DATE AND TIME: Thursday, May 5, 2011 at 10 a.m.

PLACE: 999 E Street, NW., Washington, DC (Ninth Floor).

STATUS: This meeting will be open to the public.

ITEMS TO BE DISCUSSED: Correction and Approval of the Minutes for the Meeting of April 7, 2011.

Proposed Final Audit Report on the Service Employees International Union.

Committee on Political Education (SEIU COPE) (A09-28).

Audit Division Recommendation Memorandum on Freedom's Defense Fund (FDF) (A09-21).

Policy regarding Disclosure of Documents and Information in the Enforcement Process.

Management and Administrative Matters.

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer, Telephone: (202) 694-1220.

Shawn Woodhead Werth,
Secretary and Clerk of the Commission.

[FR Doc. 2011-10767 Filed 4-28-11; 4:15 pm]

BILLING CODE 6715-01-P